DEPARTMENT OF COMMERCE

National Oceanic and Atmospheric Administration

RIN 0648-XB067

Fisheries of the South Atlantic and Gulf of Mexico; South Atlantic Fishery Management Council; Public Meeting

AGENCY: National Marine Fisheries Service (NMFS), National Oceanic and Atmospheric Administration (NOAA), Commerce.

ACTION: Notice of a public meeting.

SUMMARY: The South Atlantic Fishery Management Council (SAFMC) will hold a meeting of its Scientific and Statistical Committee (SSC) to review and discuss the following items: Fishery Management Plan (FMP) amendments under development; current landings and Acceptable Biological Catch (ABC) values for managed stocks including the effect of revised recreational catch estimates; ABC control rule approaches; research priorities; peer review procedures; and planning for update assessments of vermilion snapper and red porgy. The meeting will be held in Savannah, GA. See SUPPLEMENTARY INFORMATION.

DATES: The meetings will be held April 3-5, 2012. See SUPPLEMENTARY INFORMATION for specific dates and times.

ADDRESSES: The meeting will be held at the Hilton DeSoto Savannah, 15 East Liberty Street, Savannah, GA 31401; telephone: (912) 232-9000.

FOR FURTHER INFORMATION CONTACT: Kim Iverson, Public Information Officer, 4055 Faber Place Drive, Suite 201, North Charleston, SC 29405; telephone: (843) 571-4366; Email: Kim.Iverson@safmc.net.

SUPPLEMENTARY INFORMATION: Under the Magnuson-Stevens Reauthorized Act, the SSC is the body responsible for reviewing the Council's scientific materials. The SSC will discuss FMP amendments under development, current landings and ABC values for managed stocks including the effect of revised recreational catch estimates, ABC control rule approaches, research priorities, peer review procedures, and planning for update assessments of vermilion snapper and red porgy.

SSC Meeting Schedule:

April 3, 2012, 1 p.m.-6 p.m.

April 4, 2012, 8 a.m.-6 p.m.

April 5, 2012, 8 a.m.-3 p.m.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 3 business days prior to the meeting.

Dated: March 13, 2012.
Tracey L. Thompson,
Acting Director, Office of Sustainable Fisheries, National Marine Fisheries Service.

[FR Doc. 2012-6448 Filed 3-15-12; 8:45 am]

BILLING CODE 3510-22-P